DEPARTMENT OF ENERGY

Federal Energy Regulatory Commission

18 CFR Part 35

[Docket No. RM01-12-000]

Notice of Staff Conference on Market Monitoring

August 28, 2002.

AGENCY: Federal Energy Regulatory Commission, DOE.

ACTION: Notice of staff conference.

SUMMARY: On July 31, 2002, the Federal Energy Regulatory Commission issued a Notice of Proposed Rulemaking (67 FR 55452, August 29, 2002) proposing to amend its regulations under the Federal Power Act to remedy undue discrimination through open access transmission service and standard electricity market design. As announced in the NOPR, the Commission is convening a staff conference to get additional public input on developing a standard market monitoring plan. The public is invited to attend and a further notice giving more details will be issued later.

DATES: The conference will be convened on October 2, 2002.

ADDRESSES: The conference will be held at FERC, 888 First St., NE., in Washington, DC, in the Commission Meeting Room.

FOR FURTHER INFORMATION CONTACT: Saida Shaalan, Office of the General Counsel, Federal Energy Regulatory Commission, 888 First Street, NE., Washington, DC 20426, (202) 502-8278, saida.shaalan@ferc.gov.

SUPPLEMENTARY INFORMATION:

Remedying Undue Discrimination Through Open-Access Transmission Service and Standard Electricity Market Design

The Federal Energy Regulatory Commission (Commission) staff will convene a conference on October 2, 2002, to discuss and further develop the essential elements that should be required in a standard market monitoring plan. The conference will be held at FERC, 888 First St., NE., in Washington DC, in the Commission Meeting Room.

As announced in the July 31, 2002, Notice of Proposed Rulemaking in this docket, staff is convening this conference to get additional public input on developing a standard market monitoring plan. The staff may then propose additional detail for such a plan, on which the public will then be given opportunity to comment.

The goal of this conference is to discuss the development of a standardized market monitoring plan to assist in evaluating the performance of wholesale electric markets and the conduct of individual market participants. The conference will include a discussion of standard indices, data and reporting needed to implement the market monitoring plan effectively.

A further notice with more detail will be issued later.

The public is invited to attend. There is no registration or fee.

The conference will be transcribed. Those interested in acquiring the transcript should contact Ace Reporters at 202-347-3700, or 800-336-6646. Transcripts will be placed in the public record ten days after the Commission receives the transcripts. Additionally, Capitol Connection offers the opportunity for remote listening and viewing of the conference. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC.”

For additional information, please contact Saida Shaalan at 202-502-8278, or saida.shaalan@ferc.gov.

Linwood A. Watson, Jr.,
Deputy Secretary.

[FR Doc. 02-22484 Filed 9-6-02; 8:45 am]

BILLING CODE 6717-01-P